DEPARTMENT OF ENERGY

Federal Energy Regulatory Commission

Combined Notice of Filings # 1

March 12, 2007.

Take notice that the Commission received the following electric corporate filings:

Docket Numbers: EC07-65-000.

Applicants: Astoria Energy LLC, SCS Energy, LLC, SUEZ Energy Development NA, Inc., Suez Energy North America, Inc.

Description: Astoria Energy LLC submits an application for FERC authorization for the indirect disposition of certain jurisdictional facilities & acquisition of securities.

Filed Date: 03/05/2007

Accession Number: 20070309-0257.

Comment Date: 5 p.m. Eastern Time on Monday, March 26, 2007.

Take notice that the Commission received the following electric rate filings:

Docket Numbers: ER99-2156-010; ER96-719-016; ER97-2801-016

Applicants: Cordova Energy Company LLC; MidAmerican Energy Company; PacifiCorp.

Description: Cordova Energy Co, LLC et al submit a Notice of Change in Status in connection with MidAmerican Energy Co's operation of additional generating resources.

Filed Date: 03/02/2007.

Accession Number: 20070309-0240.

Comment Date: 5 p.m. Eastern Time on Friday, March 23, 2007.

Docket Numbers: ER01-205-019; ER98-2640-017; ER98-4590-015; ER99-1610-023.

Applicants: Xcel Energy Services Inc; Northern States Power Company and Northern States Power Company (Wisconsin); Public Service Company of Colorado; Southwestern Public Service Company.

Description: Xcel Energy Services Inc on behalf of Southwestern Public Service Company submits a change in status report relating to its market-based rate authority.

Filed Date: 03/02/2007.

Accession Number: 20070309-0567.

Comment Date: 5 p.m. Eastern Time on Friday, March 23, 2007.

Docket Numbers: ER02-2560-008.

Applicants: Louisville Gas & Electric Company/KU.

Description: Louisville Gas & Electric Co/Kentucky Utilities Co submits a compliance refund report.

Filed Date: 03/08/2007.

Accession Number: 20070308-5071.

Comment Date: 5 p.m. Eastern Time on Thursday, March 29, 2007.

Docket Numbers: ER03-478-015; ER06-200-008; ER07-240-003; ER06-1093-002; ER03-951-011; ER03-416-012; ER04-94-009; ER03-296-011; ER05-534-009; ER05-365-009; ER01-3121-010; ER02-418-009; ER05-332-009; ER02-417-009; ER05-1146-009; ER05-481-009; ER03-1326-008; ER05-1262-006.

Applicants: PPM Energy, Inc.; Big Horn Wind Project LLC; Twin Buttes Wind LLC; Flat Rock Windpower II LLC; Moraine Wind LLC; Klondike Wind Power LLC; Mountain View Power Partners III, LLC; Flying Cloud Power Partners, LLC; Eastern Desert Power LLC; Elk River Windfarm LLC; Klamath Energy LLC; Klamath Generation LLC; Klondike Wind Power II LLC; Pheonix Wind Power LLC; Shiloh I Wind Project, LLC; Trimont Wind I LLC; Colorado Green Holdings LLC; Flat Rock Windpower LLC.

Description: PPM Energy, Inc. et al. submits a change in status resulting from an intra-corporate restructuring under which PPM transferred its ownership interests in three wind energy companies to Aeolus Windpower III LLC etc.

Filed Date: 03/02/2007.

Accession Number: 20070309-0563.

Comment Date: 5 p.m. Eastern Time on Friday, March 23, 2007.

Docket Numbers: ER04-925-015.

Applicants: Merrill Lynch Commodities, Inc.

Description: Merrill Lynch Commodities, Inc. informs the Commission of a non-material change in the characteristics relied upon in granting them market-based rate authorization under ER04-925.

Filed Date: 03/02/2007.

Accession Number: 20070306-0203.

Comment Date: 5 p.m. Eastern Time on Friday, March 23, 2007.

Docket Numbers: ER06-731-005.

Applicants: Midwest Independent Transmission System Operator, Inc.

Description: Midwest Independent Transmission System Operator, Inc. submits amendments to its 1/22/07 filing regarding the Broad Constrained Area Mitigation pursuant to FERC's 12/21/06 Letter Order.

Filed Date: 03/02/2007.

Accession Number: 20070306-0206.

Comment Date: 5 p.m. Eastern Time on Friday, March 23, 2007.

Docket Numbers: ER07-284-002.

Applicants: San Diego Gas & Electric Company.

Description: San Diego Gas & Electric Company submits Volumes 2 & 6 to its compliance filing pursuant to FERC's 1/31/07 order.

Filed Date: 03/02/2007.

Accession Number: 20070309-0182.

Comment Date: 5 p.m. Eastern Time on Friday, March 23, 2007.

Docket Numbers: ER07-319-001.

Applicants: Southwest Power Pool.

Description: Southwest Power Pool, Inc submits Exhibits I and II as Fourth Revised Sheet 618 to FERC Electric Tariff, Fourth Revised Volume 1 an errata to the 3/2/07 compliance filing, effective 2/1/07.

Filed Date: 03/06/2007.

Accession Number: 20070309-0234.

Comment Date: 5 p.m. Eastern Time on Tuesday, March 27, 2007.

Docket Numbers: ER07-587-000.

Applicants: Xcel Energy Operating Companies.

Description: Xcel Energy Services, Inc. on behalf of Public Service Co of Colorado submits a Standard Large Generation Interconnection Agreement with Peetz Logan Interconnect, LLC.

Filed Date: 03/02/2007.

Accession Number: 20070306-0239.

Comment Date: 5 p.m. Eastern Time on Friday, March 23, 2007.

Docket Numbers: ER07-605-000.

Applicants: HLM Energy LLC.

Description: HLM Energy, LLC submits a notice of cancellation of Original Sheet 1-2 to FERC Electric Tariff, Volume 1 pursuant to Sections 35.15 and 131.53 of FERC's Regulations.

Filed Date: 03/07/2007.

Accession Number: 20070309-0558.

Comment Date: 5 p.m. Eastern Time on Wednesday, March 28, 2007.

Docket Numbers: ER07-604-000.

Applicants: Southern California Edison Company.

Description: Southern California Edison Co submits a Large Generator Interconnection Agreement w/ El Segundo Power II LLC et al. pursuant to Section 35.13 of FERC's Regulations.

Filed Date: 03/08/2007.

Accession Number: 20070309-0561.

Comment Date: 5 p.m. Eastern Time on Thursday, March 29, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov or call (866) 208-3676 (toll free). For TTY, call (202) 502-8659.

Philis J. Posey,
Acting Secretary.

[FR Doc. E7-4816 Filed 3-15-07; 8:45 am]

BILLING CODE 6717-01-P